DEPARTMENT OF LABOR

Office of the Secretary

Agency Information Collection Activities; Submission for OMB Review; Comment Request; Registered Apprenticeship College Consortium

ACTION: Notice of availability; request for comments.

SUMMARY: The Department of Labor (DOL) is submitting the Employment and Training Administration (ETA)-sponsored information collection request (ICR) reinstatement without change titled, “Registered Apprenticeship College Consortium,” to the Office of Management and Budget (OMB) for review and approval for use in accordance with the Paperwork Reduction Act (PRA) of 1995. Public comments on the ICR are invited.

DATES: The OMB will consider all written comments that agency receives on or before June 29, 2020.

ADDRESSES: A copy of this ICR with applicable supporting documentation; including a description of the likely respondents, proposed frequency of response, and estimated total burden may be obtained free of charge from the RegInfo.gov website at http://www.reginfo.gov/public/do/PRAViewICR?ref_nbr=202001-1205-005 (this link will only become active on the day following publication of this notice) or by contacting Frederick Licari by telephone at 202-693-8073, TTY 202-693-8064, (these are not toll-free numbers) or sending an email to DOL_PRA_PUBLIC@dol.gov.

Submit comments about this request by mail or courier to the Office of Information and Regulatory Affairs, Attn: OMB Desk Officer for DOL-ETA, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW, Washington, DC 20210; or by email: DOL_PRA_PUBLIC@dol.gov.

FOR FURTHER INFORMATION CONTACT: Crystal Rennie by telephone at 202-693-0456 or sending an email to DOL_PRA_PUBLIC@dol.gov.

SUPPLEMENTARY INFORMATION: This ICR seeks approval, under the PRA, for a reinstatement without change to the Registered Apprenticeship College Consortium. The purpose of the consortium is to facilitate awarding the Registered Apprenticeship completion certificate towards college credit. Consortium post-secondary members agree to accept apprentice graduates from member Registered Apprenticeship sponsors with the approximate amount of credit towards college that has been designated by a third party evaluator. This consortium is based on the Service Members Opportunities Colleges Consortium supported by the Department of Defense. The data collection includes three application forms to join the consortium. There are three types of memberships and separate applications for each member: (1) The application for Registered Apprenticeship sponsors asks for contact information for the national, regional or single guideline standards or program, all participating training centers (if applicable) and the value of the apprenticeship program towards college credit; (2) the application for two- and four-year post-secondary institutions requests contact, degree and credit transfer information; and (3) national, regional or state organizations that represent sponsors and/or two- and four-year post-secondary colleges and will facilitate the membership in the consortium requests contact information and the nature of the relationship with sponsors or colleges. This information collection request allows the agency to use a previously approved version from the same information collection under the OMB Control Number provided with the original approval and has been classified as a reinstatement without change.

This proposed information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information if the collection of information does not display a valid Control Number. See 5 CFR 1320.5(a) and 1320.6. For additional substantive information about this ICR, see the related notice published in the Federal Register on September 30, 2019 (84 FR 51635).

Interested parties are encouraged to send comments to the OMB, Office of Information and Regulatory Affairs at the address shown in the ADDRESSES section within thirty-(30) days of publication of this notice in the Federal Register. In order to help ensure appropriate consideration, comments should mention OMB Control Number 1205-0512. The OMB is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Registered Apprenticeship College Consortium.

OMB Control Number: 1205-0512.

Affected Public: Federal Governments; State, Local, and Tribal Governments and Private Sector, Business or other for-profits and not-for-profits institutions.

Total Estimated Number of Respondents: 500.

Total Estimated Number of Responses: 815.

Total Estimated Annual Time Burden: 85 hours.

Total Estimated Annual Other Costs Burden: $0.

(Authority: 44 U.S.C. 3507(a)(1)(D))

Crystal R. Rennie,
Acting, Departmental Clearance Officer.

[FR Doc. 2020-11468 Filed 5-27-20; 8:45 am]

BILLING CODE 4510-FR-P